DEPARTMENT OF AGRICULTURE

Agricultural Marketing Service

7 CFR Parts 1001, 1005, 1006, 1007, 1126, 1131, and 1135

[Docket No. DA-97-12]

Milk in the New England and Other Marketing Areas; Order Amending the Orders; Correction

AGENCY: Agricultural Marketing Service, USDA.

ACTION: Final rule; correction.

SUMMARY: The Agricultural Marketing Service published in the Federal Register on September 1, 1999, (64 FR 47898) a final rule which consolidated 31 Federal milk marketing orders into 11 orders. This document corrects an error in section 73 of 7 of those orders by changing the term “pool plant operator” to “handler.” The remaining 4 orders contain the correct language.

EFFECTIVE DATE: This correction is effective May 22, 2000.

FOR FURTHER INFORMATION CONTACT: Nicholas Memoli, Marketing Specialist, Order Formulation Branch, USDA/AMS/Dairy Programs, Room 2971, South Building, P.O. Box 96456, Washington, DC 20090-6456, (202) 690-1932, e-mail address Nicholas.Memoli@usda.gov.

SUPPLEMENTARY INFORMATION:

Background and Need for Correction

In the final rule (DA-97-12) issued August 23, 1999, and published in the Federal Register on September 1, 1999 (64 FR 47898), an error in Section 73(a) and (b) of Parts 1001, 1005, 1006, and 1007, and Section 73(b) of Parts 1126, 1131, and 1135 was inadvertently made. Specifically, the term “handler” was changed to “pool plant operator.” The correct term is used in the 4 remaining orders (Parts 1030, 1032, 1033 and 1124) and is only different in the 7 orders because of an oversight in drafting the amendments to the orders. Therefore, the applicable provisions of the 7 orders need to be corrected.

List of Subjects in 7 CFR Parts 1000 to 1199

Milk orders.

Accordingly, 7 CFR Parts 1001, 1005, 1006, 1007, 1126, 1131, and 1135 are corrected by making the following correcting amendments:

PARTS 1001, 1005, 1006, 1007, 1126, 1131, and 1135—[AMENDED]

1. The authority citation for Parts 1001, 1005, 1006, 1007, 1126, 1131, and 1135 continues to read as follows:

Authority: 7 U.S.C. 601-674, and 7253.

§§ 1001.73, 1005.73, 1006.73, 1007.73, 1126.73, 1131.73, 1135.73 [Amended]

2. In the introductory text of §§ 1001.73(a) and (b), 1005.73(a) and (b), 1006.73(a) and (b), 1007.73(a) and (b), 1126.73(b), 1131.73(b), and 1135.73(b), the words “pool plant operator” are revised to read “handler.”

Dated: May 17, 2000.
Kenneth C. Clayton,
Acting Administrator, Agricultural Maketing Service.

[FR Doc. 00-12799 Filed 5-19-00; 8:45 am]

BILLING CODE 3410-02-P